DEPARTMENT OF ENERGY

Federal Energy Regulatory Commission

Combined Notice of Filings #1

Take notice that the Commission received the following Complaints and Compliance filings in EL Dockets:

Docket Numbers: EL24-35-000.

Applicants: Grain Belt Express LLC v. Midcontinent Independent System Operator, Inc.

Description: Complaint of Grain Belt Express LLC v. Midcontinent Independent System Operator, Inc.

Filed Date: 12/6/23.

Accession Number: 20231206-5195.

Comment Date: 5 p.m. ET 1/15/24.

Take notice that the Commission received the following electric rate filings:

Docket Numbers: ER22-682-006.

Applicants: Duke Energy Progress, LLC.

Description: Compliance filing: DEP—Compliance Filing to Establish Effective Date to be effective 1/1/2023.

Filed Date: 12/7/23.

Accession Number: 20231207-5147.

Comment Date: 5 p.m. ET 12/28/23.

Docket Numbers: ER23-2799-001.

Applicants: PJM Interconnection, L.L.C.

Description: Tariff Amendment: Response to Commission's 11/7/23 Deficiency Letter in ER23-2799 to be effective 8/10/2023.

Filed Date: 12/7/23.

Accession Number: 20231207-5177.

Comment Date: 5 p.m. ET 12/28/23.

Docket Numbers: ER23-2812-001.

Applicants: PJM Interconnection, L.L.C.

Description: Tariff Amendment: Submission of Response to Deficiency Letter, Original ISA, SA No. 7065 to be effective 12/31/9998.

Filed Date: 12/7/23.

Accession Number: 20231207-5128.

Comment Date: 5 p.m. ET 12/28/23.

Docket Numbers: ER24-577-000.

Applicants: Puckett Solar, LLC.

Description: 205(d) Rate Filing: Revised Market-Based Rate Tariff to be effective 12/7/2023.

Filed Date: 12/6/23.

Accession Number: 20231206-5160.

Comment Date: 5 p.m. ET 12/27/23.

Docket Numbers: ER24-578-000.

Applicants: Regan Solar, LLC.

Description: 205(d) Rate Filing: Revised Market-Based Rate Tariff to be effective 12/7/2023.

Filed Date: 12/6/23.

Accession Number: 20231206-5161.

Comment Date: 5 p.m. ET 12/27/23.

Docket Numbers: ER24-579-000.

Applicants: Solar Star Lost Hills, LLC.

Description: 205(d) Rate Filing: Revised Market-Based Rate Tariff to be effective 12/7/2023.

Filed Date: 12/6/23.

Accession Number: 20231206-5162.

Comment Date: 5 p.m. ET 12/27/23.

Docket Numbers: ER24-580-000.

Applicants: Toms River Merchant Solar, LLC.

Description: 205(d) Rate Filing: Revised Market-Based Rate Tariff to be effective 12/7/2023.

Filed Date: 12/6/23.

Accession Number: 20231206-5166.

Comment Date: 5 p.m. ET 12/27/23.

Docket Numbers: ER24-581-000.

Applicants: Toms River Net Meter Solar, LLC.

Description: 205(d) Rate Filing: Revised Market-Based Rate Tariff to be effective 12/7/2023.

Filed Date: 12/6/23.

Accession Number: 20231206-5169.

Comment Date: 5 p.m. ET 12/27/23.

Docket Numbers: ER24-582-000.

Applicants: PJM Interconnection, L.L.C.

Description: 205(d) Rate Filing: Amendment to 4 Service Agreements re: FirstEnergy Reorganization to be effective 12/31/9998.

Filed Date: 12/6/23.

Accession Number: 20231206-5174.

Comment Date: 5 p.m. ET 12/27/23.

Docket Numbers: ER24-583-000.

Applicants: Midcontinent Independent System Operator, Inc.

Description: 205(d) Rate Filing: 2023-12-07_SA 3374 Entergy Louisiana-Amite Solar 1st Rev GIA (J909) to be effective 11/30/2023.

Filed Date: 12/7/23.

Accession Number: 20231207-5067.

Comment Date: 5 p.m. ET 12/28/23.

Docket Numbers: ER24-584-000.

Applicants: Tri-State Generation and Transmission Association, Inc.

Description: 205(d) Rate Filing: Initial Filing of Rate Schedule FERC No. 362 to be effective 11/7/2023.

Filed Date: 12/7/23.

Accession Number: 20231207-5076.

Comment Date: 5 p.m. ET 12/28/23.

Docket Numbers: ER24-585-000.

Applicants: MidAmerican Energy Company.

Description: 205(d) Rate Filing: IA between CIPC and MidAm for Mockingbird to be effective 12/8/2023.

Filed Date: 12/7/23.

Accession Number: 20231207-5094.

Comment Date: 5 p.m. ET 12/28/23.

Docket Numbers: ER24-586-000.

Applicants: Southern California Edison Company.

Description: Tariff Amendment: Terminate eTariff Record, Pajuela Peak Wind Park GIA—WDT1097TOC/SA No. 638 to be effective 2/6/2024.

Filed Date: 12/7/23.

Accession Number: 20231207-5095.

Comment Date: 5 p.m. ET 12/28/23.

Docket Numbers: ER24-587-000.

Applicants: Midcontinent Independent System Operator, Inc., Ameren Illinois Company.

Description: 205(d) Rate Filing: Midcontinent Independent System Operator, Inc. submits tariff filing per 35.13(a)(2)(iii: 2023-12-07_SA 2686 2nd Amended Ameren-SIPC WCA to be effective 2/24/2024.

Filed Date: 12/7/23.

Accession Number: 20231207-5139.

Comment Date: 5 p.m. ET 12/28/23.

Docket Numbers: ER24-588-000.

Applicants: PacifiCorp.

Description: 205(d) Rate Filing: Cheyenne Light, Fuel and Power Co. Engineering & Procurement Agreement to be effective 12/8/2023.

Filed Date: 12/7/23.

Accession Number: 20231207-5140.

Comment Date: 5 p.m. ET 12/28/23.

Docket Numbers: ER24-589-000.

Applicants: PJM Interconnection, L.L.C.

Description: 205(d) Rate Filing: Original NSA, Service Agreement No. 7138; Queue No. AE1-109 to be effective 2/6/2024.

Filed Date: 12/7/23.

Accession Number: 20231207-5142.

Comment Date: 5 p.m. ET 12/28/23.

Docket Numbers: ER24-590-000.

Applicants: Elgin Energy Center, LLC

Description: Tariff Amendment: Notice of Cancellation—MBR Tariff to be effective 12/7/2023.

Filed Date: 12/7/23.

Accession Number: 20231207-5154.

Comment Date: 5 p.m. ET 12/28/23.

Docket Numbers: ER24-591-000.

Applicants: Elgin Energy Center, LLC.

Description: Tariff Amendment: Notice of Cancellation—Reactive Tariff to be effective 12/7/2023.

Filed Date: 12/7/23.

Accession Number: 20231207-5158.

Comment Date: 5 p.m. ET 12/28/23.

Docket Numbers: ER24-592-000.

Applicants: Rocky Road Power, LLC.

Description: Tariff Amendment: Notice of Cancellation to be effective 12/7/2023.

Filed Date: 12/7/23.

Accession Number: 20231207-5161.

Comment Date: 5 p.m. ET 12/28/23.

Docket Numbers: ER24-593-000.

Applicants: San Diego Gas & Electric Company.

Description: 205(d) Rate Filing: 2024 RS Filing to be effective 1/1/2024.

Filed Date: 12/7/23.

Accession Number: 20231207-5168.

Comment Date: 5 p.m. ET 12/28/23.

Docket Numbers: ER24-594-000.

Applicants: Salka Cabazon Wind LLC.

Description: 205(d) Rate Filing: Notice of Succession to be effective 12/8/2023.

Filed Date: 12/7/23.

Accession Number: 20231207-5171.

Comment Date: 5 p.m. ET 12/28/23.

Docket Numbers: ER24-595-000.

Applicants: Southwestern Public Service Company.

Description: Tariff Amendment: 2023-12-07 Sagamore Gen-2016-123-124-125 E&P NOC to be effective 12/8/2023.

Filed Date: 12/7/23.

Accession Number: 20231207-5180.

Comment Date: 5 p.m. ET 12/28/23.

Docket Numbers: ER24-596-000.

Applicants: PJM Interconnection, L.L.C.

Description: 205(d) Rate Filing: Amendment to WMPA, SA No. 5981; Queue No. AG1-386 to be effective 2/6/2024.

Filed Date: 12/7/23.

Accession Number: 20231207-5191.

Comment Date: 5 p.m. ET 12/28/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 7, 2023.
Kimberly D. Bose,
Secretary.

[FR Doc. 2023-27389 Filed 12-13-23; 8:45 am]

BILLING CODE 6717-01-P